FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than May 12, 2009.

A. Federal Reserve Bank of Atlanta (Steve Foley, Vice President) 1000 Peachtree Street, N.E., Atlanta, Georgia 30309:

1. Jessie Doyle Buffinton; Helmut Hans Cawthon; Kenneth Franklin Davis; Andrew Charles Heaner; Clinton Gray Hubbard; Stephen Curtis Klasson; Kimberly Gill Mauer; Laura Hallin Mumber; Matthew Peter Mumber; Delos Harley Yancey, III; John Demetrius Xanthos, all of Rome, Georgia; Andrew Charles Heaner, Atlanta, Georgia; and Wayne Elm Vick, Armuchee, Georgia; collectively to acquire additional voting shares of Heritage First Bancshares, Inc., and thereby indirectly acquire additional voting shares of Heritage First Bank, both of Rome, Georgia.

B. Federal Reserve Bank of St. Louis (Glenda Wilson, Community Affairs Officer) P.O. Box 442, St. Louis, Missouri 63166-2034:

1. Terry L. Bunnell, individually and in concert with Deborah L. Bunnell, both of Glasgow, Kentucky; to acquire control of Peoples—Marion Bancorp, Inc., and thereby indirectly acquire control of The Peoples Bank, both of Marion, Kentucky.

Board of Governors of the Federal Reserve System, April 22, 2009.
Robert deV. Frierson,
Deputy Secretary of the Board.

[FR Doc. E9-9520 Filed 4-24-09; 8:45 am]

BILLING CODE 6210-01-S